DEPARTMENT OF DEFENSE

Department of the Air Force

[Docket ID: USAF-2008-0020]

Privacy Act of 1974; System of Records

AGENCY: Department of the Air Force, DoD.

ACTION: Notice to add a system of records.

SUMMARY: The Department of the Air Force proposes to add a system of records notice to its inventory of records systems subject to the Privacy Act of 1974 (5 U.S.C. 552a), as amended.

DATES: This action will be effective without further notice on October 31, 2008 unless comments are received that would result in a contrary determination.

ADDRESSES: Send comments to the Air Force Privacy Act Officer, Office of Warfighting Integration and Chief Information Officer, SAF/XCPPI, 1800 Air Force Pentagon, Suite 220, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on September 9, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 23, 2008.
Patricia L. Toppings,
OSD Federal Register Liaison Officer, Department of Defense.

F036 AFMC E

System Name:

Summer Faculty Fellowship Program (SFFP) Records.

System Location:

American Society for Engineering Education (ASEE), 1818 N Street NW., Suite 600, Washington, DC 20036-2479.

Categories of Individuals Covered by the System:

University professors/researchers (U.S. citizens and permanent residents).

Categories of Records in the System:

Individual's name, resident state, mailing address, e-mail address, telephone numbers, date and place of birth, citizenship, present position, discipline, institution name and address, educational background, degrees and dates, professional employment, significant academic and professional activities, lists of publications, research experience and courses taught academic references, and current contracts or grant activities.

For professors awarded and accepting fellowships: Social Security Number (SSN) and bank account numbers to allow direct deposit of stipends and reporting to the Internal Revenue Service (IRS). In addition, voluntary demographic information on gender, ethnicity, race, and disability will be collected.

Authority for Maintenance of the System:

10 U.S.C. 8013, Secretary of the Air Force and Executive Order 9397 (SSN).

Purpose:

To maintain documentation of the applications and processes necessary to screen applicants and to evaluate and select the most promising researchers to award fellowships. The American Society for Engineering Education will pay stipends to awardees by direct deposit and advise the Internal Revenue Service (IRS) as required.

In addition to those disclosures generally permitted under 5 U.S.C. 552a(b) of the Privacy Act of 1974, these records or information contained therein may specifically be disclosed outside the DoD as a routine use pursuant to 5 U.S.C. 552a(b)(3) as follows:

The DoD `Blanket Routine Uses' published at the beginning of the Air Force's compilation of record system notices apply to this system.

Policies and Practices for Storing, Retrieving, Accessing, Retaining, and Disposing of Records in the System:

Storage:

Paper records in file folders and electronic storage media.

Retrievability:

Individual's name.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and Disposal:

Special Basic Research Programs records are destroyed two years after assignment ends. Education records are destroyed after payment of last invoice. Records will be shredded or incinerated.

System Manager and Address:

Department of Air Force, Air Force Office of Scientific Research, AFRL/AFOSR/PIE, 875 North Randolph Street, Suite 325, Room 3112, Arlington, VA 22203-1768.

Record Access Procedure:

Individuals seeking access to records about themselves contained in the system of records should address written inquiries to Summer Faculty Fellowship Program, American Society for Engineering Education, 1818 N St., NW., Washington, DC 20036-2479.

Written requests should contain full name and e-mail and mailing address.

Notification Procedure:

Individuals seeking to determine whether information about themselves is contained in this system should address written inquiries to Summer Faculty Fellowship Program, American Society for Engineering Education, 1818 N St., NW., Washington, DC 20036-2479.

Written requests should contain full name and e-mail and mailing address.

Contesting Records Procedures:

The Air Force rules for accessing, and for contesting contents and appealing initial agency determinations are published in Air Force Instruction 33-332, Privacy Act Program; 32 CFR part 806b; or may be obtained from the system manager.

Record Source Categories:

Individuals, their references, and universities.

Exemptions Claimed for the System:

None.

[FR Doc. E8-23014 Filed 9-30-08; 8:45 am]

BILLING CODE 5001-06-P